DEPARTMENT OF TRANSPORTATION

Federal Aviation Administration

14 CFR Part 39

[Docket No. FAA-2024-2143; Project Identifier AD-2024-00008-A]

RIN 2120-AA64

Airworthiness Directives; Piper Aircraft, Inc. Airplanes

AGENCY: Federal Aviation Administration (FAA), DOT.

ACTION: Notice of proposed rulemaking (NPRM).

SUMMARY: The FAA proposes to adopt a new airworthiness directive (AD) for certain Piper Aircraft, Inc. (Piper) Model PA-28-140, PA-28-150, PA-28-160, PA-28-180, PA-28S-160, PA-28S-180, PA-28-236, PA-28-201T, PA-32-300, PA-32R-300, PA-32RT-300, PA-32RT-300T, PA-32-301FT, PA-32-301XTC, PA-32R-301 (HP), PA-32R-301 (SP), PA-32R-301T, PA-32-301, and PA-32-301T airplanes. This proposed AD was prompted by a report of a wing separation caused by fatigue cracking in a visually inaccessible area of the lower main wing spar cap and additional reports of fatigue cracking in the wing spars of airplanes that share common type design features. This proposed AD would require reviewing airplane maintenance records to determine if an eddy current inspection of the lower main wing spar bolt holes was done and, depending on the result, doing a one-time eddy current inspection of the lower wing spar bolt holes for crack(s), and replacing any cracked main wing spar. The FAA is proposing this AD to address the unsafe condition on these products.

DATES: The FAA must receive comments on this proposed AD by November 4, 2024.

ADDRESSES: You may send comments, using the procedures found in 14 CFR 11.43 and 11.45, by any of the following methods:

• Federal eRulemaking Portal: Go to regulations.gov. Follow the instructions for submitting comments.

• Fax: (202) 493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-2143; or in person at Docket Operations between 9 a.m. and 5 p.m., Monday through Friday, except Federal holidays. The AD docket contains this NPRM, any comments received, and other information. The street address for Docket Operations is listed above.

Material Incorporated by Reference:

• For Piper material identified in this proposed AD, contact Piper Aircraft, Inc., 2926 Piper Drive, Vero Beach, Florida 32960; phone: (772) 567-4361; email: customerservice@piper.com; website: piper.com.

• You may view this material at the FAA, Airworthiness Products Section, Operational Safety Branch, 901 Locust, Kansas City, MO 64106. For information on the availability of this material at the FAA, call (817) 222-5110.

FOR FURTHER INFORMATION CONTACT: Fred Caplan, Aviation Safety Engineer, FAA, 1701 Columbia Avenue, College Park, GA 30337; phone: (404) 474-5507; email: 9-ASO-ATLACO-ADS@faa.gov.

SUPPLEMENTARY INFORMATION:

Comments Invited

The FAA invites you to send any written relevant data, views, or arguments about this proposal. Send your comments to an address listed under the ADDRESSES section. Include “Docket No. FAA-2024-2143; Project Identifier AD-2024-00008-A” at the beginning of your comments. The most helpful comments reference a specific portion of the proposal, explain the reason for any recommended change, and include supporting data. The FAA will consider all comments received by the closing date and may revise this proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Fred Caplan, Aviation Safety Engineer, FAA, 1701 Columbia Avenue, College Park, GA 30337. Any commentary that the FAA receives which is not specifically designated as CBI will be placed in the public docket for this rulemaking.

Background

The FAA issued AD 2020-26-16, Amendment 39-21371 (86 FR 3769, January 15, 2021) (AD 2020-26-16), for certain Piper Model PA-28-151, PA-28-161, PA-28-181, PA-28-235, PA-28R-180, PA-28R-200, PA-28R-201, PA-28R-201T, PA-28RT-201, PA-28RT-201T, PA-32-260, PA-32-300, PA-32R-300, PA-32RT-300, and PA-32RT-300T airplanes. AD 2020-26-16 was prompted by an accident involving wing separation on a Piper Model PA-28R-201 airplane. An investigation by the National Transportation Safety Board (NTSB) revealed a fatigue crack in a visually inaccessible area of the lower main wing spar cap. The applicability of the NPRM for AD 2020-26-16 included additional Piper model airplanes with similar main wing spar structures as the Model PA-28R-201. Based on airplane usage history, the FAA determined that only those airplanes with a higher risk for fatigue cracks (airplanes with a significant history of operation in flight training or other high-load environments) should be subject to the inspection requirements proposed in that NPRM.

AD 2020-26-16 requires calculating the factored service hours for each main wing spar to determine when an inspection is required, inspecting the lower main wing spar bolt holes for cracks, and replacing any cracked main wing spar. The agency issued AD 2020-26-16 to detect and correct fatigue cracks in the lower main wing spar cap bolt holes.

Actions Since AD 2020-26-16 Was Issued

The preamble to AD 2020-26-16 explains that the FAA considers the requirements “interim action” and was considering further rulemaking. The FAA has now determined that further rulemaking is necessary, and this proposed AD and a separate proposed rulemaking action (Docket No. FAA-2024-2142) that would supersede AD 2020-26-16 follows from that determination. Similar to AD 2020-26-16, this proposed AD is also considered to be an interim action that would determine the need for additional actions in the fleet addressed currently. The FAA evaluated the inspection reports submitted by operators as required by AD 2020-26-16 and determined that wing spars from additional Piper airplane models should be inspected.

Since the FAA issued AD 2020-26-16, the FAA has analyzed the accident history of the airplanes affected by AD 2020-26-16 and other Piper airplanes operated in a similar fashion. The following paragraphs communicate the FAA's findings on this subject.

Accident History

Fatigue cracking was present in the main wing spars of Piper Model PA-28-181, Model PA-28R-201, and Model PA-28-161 airplanes involved in the following accidents. The following NTSB reports are related to this issue and can be found on ntsb.gov.

• NTSB Accident Number FTW87FA088: March 30, 1987—Marlin, TX—Piper Model PA-28-181—7,490 hours time-in-service (TIS). This accident was determined to have been caused by fatigue cracking in the outboard bolt holes of the main wing spar. This airplane's primary usage was a “Pipeline Patrol” mission.

• NTSB Accident Number NYC93FA140: August 2, 1993—Provincetown, MA—Piper Model PA-28-181—11,683 hours TIS. This accident was determined to have been caused by structural overloading related to weather, but fatigue cracks were present near the outboard bolt holes. This airplane's usage history included personal use, flight instruction, and charter flights.

• NTSB Accident Number ERA18FA120: April 4, 2018—Daytona Beach, FL—Piper Model PA-28R-201—7,691 hours TIS. This accident was determined to have been caused by fatigue cracking in the outboard bolt holes of the main wing spar. This airplane's primary usage was flight instruction.

Bolt Hole Cracks and Other Findings

Following the release of AD 2020-26-16, the FAA and Piper received over 2,800 bolt-hole eddy current inspection reports. The inspections performed in the field revealed a mix of observations that warrant further discussion. Of the total inspections, over 100 reported a positive eddy current indication, with several including pictures of the bolt hole showing the source of the indication.

Piper later conducted more detailed inspections in a study of 24 main wing spars with 20 having positive eddy current indications. Out of the 20 positive indications, 3 were identified as fatigue cracks, where 1 was confirmed by Piper, and 2 were confirmed by the NTSB. The remaining were determined to be features not consistent with a crack, and 1 overstress crack as confirmed by the NTSB.

Though not all are confirmed, many of the indications are likely not fatigue cracks but are a variety of anomalies in the hole. These can include corrosion pitting, scratches, gouges, and threading marks possibly caused by forceful insertion and removal of the close-fit bolts without proper unloading of the wing or other reasons. While these may not present as fatigue cracks at the time of inspection, anomalies in the hole create a stress concentration where cracks can begin to grow. Therefore, it is still crucial to inspect the critical bolt holes for these issues and take corrective action to prevent the formation of fatigue cracks. Piper Service Bulletin No. 1345, Revision A, dated September 17, 2021 (Piper SB No. 1345, Revision A); and Piper Service Bulletin No. 1412, dated May 7, 2024 (Piper SB No. 1412), include procedures for distinguishing between indications caused by hole damage or other anomalies from those caused by cracks.

In addition to the various forms of non-crack hole damage, the inspections revealed several cracks in and around the bolt holes. As part of the AD 2020-26-16 inspection reports, 6 cracks were found, including 2 later verified by NTSB lab examination and 1 verified by Piper (from the Piper study referenced above), and 3 visible cracks in photos. Other known cracks include those found in an airplane in the same fleet as the 2018 accident airplane, a separately submitted crack finding confirmed with dye penetrant, and a crack located on the lower spar cap surface running alongside the inspection bolt holes. Given these findings, additional cracks may be present among the other unconfirmed reported indications.

Other cracks have been discovered that may be caused by overload rather than by fatigue. While use of the airplane within its limits should not cause an overload crack, some crack findings have revealed that airplanes have been operated outside their limits. Though cracks due to overload are not the primary source of this corrective action, this emphasizes the need for and importance of inspecting the spar bolt holes for evidence of any cracking.

Long-Term Continued Operational Safety

The AD 2020-26-16 inspection report results indicated that additional inspections are needed to manage the safety of the fleet. Data indicates that more airplanes will need to be inspected, including the need to expand inspections to Piper airplane models that share a similar structural design of the main wing spar beyond the models addressed in AD 2020-26-16.

Crack development is a function of many factors, including the design of the structure, how severely the aircraft is flown, and manufacturing processes. Small imperfections may exist in any aircraft structure from an early age; however, through operation, these imperfections may slowly grow into fatigue cracks. Fatigue cracks have the effect of weakening the structure and its ability to support the stresses the airplane was originally designed to handle.

The 2018 accident, along with other accidents in this fleet attributed to fatigue cracking, and the AD 2020-26-16 inspection reports, indicate an aging fleet that requires intervention to ensure any fatigue cracking does not reach a critical state prior to being detected.

Ensuring further damage is not caused by an inspection itself is important; however, inspecting for fatigue cracks as well as other hole anomalies is critical and outweighs the risk associated with doing the inspections. Piper has developed service actions, most recently in Piper SB No. 1345, Revision A; and Piper SB No. 1412, that mitigate inspection-induced damage by emphasizing proper unloading of the wing for both bolt and wing removal and replacement, if necessary, along with other instructions for ensuring care of the bolt holes.

Corrective Action Development

Each requirement outlined in this proposed AD has been developed to both address the unsafe condition and limit the number of required inspections, reducing the burden on operators where possible. A brief discussion of each aspect of the requirements continues below.

Airplane Model Grouping

The inspection data received via the reporting requirement in AD 2020-26-16, along with testing of the baseline spar common to all Piper Model PA-28 and PA-32 airplanes, has shown that inspections should be extended to include Piper airplane models that share similar structural design but were not included in the applicability of AD 2020-26-16. It is likely that a significant contributing factor in the formation of cracks found in the main wing spar bolt attachment area is the cold bending of the spar to achieve the wing's dihedral. This method of forming the spar dihedral combined with the proximity to the wing attachment bolt holes leads to high residual stress in that area. The potential for fatigue cracking in and around the bolt holes, as well as higher variability in crack location and severity, is higher under this constant additional stress.

In an attempt to support less onerous inspections and to understand the causal factors, Piper investigated the residual stresses in the critical bolt-hole area. That investigation showed that the residual stress due to the spar cold bending process is a significant contributing factor in reducing the fatigue life of the spar bolt holes. An additional outcome of this investigation is a change to all new manufactured spars having machined dihedral bends to eliminate the residual stresses in the critical area.

Though there are differences between all Model PA-28 and PA-32 airplanes, such as additional reinforcing structure and lower operational loads, all airplane models share this same baseline spar with the cold bent dihedral. Differing characteristics allow for a grouping and tailoring of the requirements for each airplane model, but all airplane models need to be inspected. The airplane models in the applicability of this proposed AD are not the same airplane models that are included in the applicability of the proposed rulemaking action (Docket No. FAA-2024-2142) that would supersede AD 2020-26-16, and the proposed required actions are different between these two proposed rulemaking actions.

The remaining Piper Model PA-28 and PA-32 airplanes that would not be included in the applicability of this proposed AD either experience higher operational loads or have less structure. Both of these conditions increase the stress experienced in the subject bolt holes of the baseline spar and thus are subject to the proposed rulemaking action (Docket No. FAA-2024-2142) to supersede AD 2020-26-16.

Determination of Inspection Compliance Time

The proposed compliance time for the eddy-current inspection specified in this proposed AD was based on an inspection report received in response to AD 2020-26-16 that showed a crack indication in a Model PA-32-300 wing spar, later verified by Piper as a crack. Some airplanes in the proposed applicability of this AD may have been inspected as part of the requirements of AD 2020-26-16; however, if cracks in the wing spar are not expected as early due to the structural differences discussed above, these inspections may not yield the intended insight into the state of the wing spars. Therefore, the current proposed compliance time was set near and prior to the time-in-service of this confirmed crack finding in a wing spar of the same population as those in the airplanes in the applicability of this proposed AD.

Wing spars on the affected Piper airplanes could develop cracks that, if not addressed, would result in a wing separating from the fuselage in flight.

FAA's Determination

The FAA is issuing this NPRM after determining that the unsafe condition described previously is likely to exist or develop on other products of the same type design.

Material Incorporated by Reference Under 1 CFR Part 51

The FAA reviewed Piper Service Bulletin 1412, dated May 7, 2024. This material specifies procedures for doing a one-time eddy current inspection of the lower wing spar bolt holes for crack(s) and replacing any cracked main wing spar. This material also includes instructions to report the results of the inspection to Piper. This material is reasonably available because the interested parties have access to it through their normal course of business or by the means identified in the ADDRESSES section.

Proposed AD Requirements in This NPRM

This proposed AD would require reviewing airplane maintenance records to determine if an eddy current inspection of the lower main wing spar bolt holes was done and depending on the result, doing an eddy current inspection of the lower wing spar for crack(s) if not previously done or if done prior to 12,000 hours TIS, and replacing any cracked main wing spar. This proposed AD would also require sending all inspection results to Piper and the FAA.

Differences Between This Proposed AD and the Referenced Material

Piper SB 1412 specifies to contact Piper for disposition if any non-crack damage is found in the main wing spar bolt holes or any crack(s) or non-crack damage is found in the spar box bolt holes but this proposed AD would require contacting either the Manager, East Certification Branch, FAA, or the Piper Organization Designation Authorization (ODA) for instructions and doing those actions. To be approved, the repair method, modification deviation, or alteration deviation must meet the certification basis of the airplane, and the approval must specifically refer to the proposed AD.

Piper SB 1412 specifies using its feedback form to report the inspection results but this proposed AD would require using the form included as Appendix 1 to this proposed AD.

Interim Action

The FAA considers that this proposed AD would be an interim action. The proposed inspection reports would provide the FAA with additional data for determining the number of cracks present in the fleet. After analyzing the data, the FAA may take further rulemaking action.

Costs of Compliance

The FAA estimates that this AD, if adopted as proposed, would affect 10,927 airplanes of U.S. registry.

The FAA estimates the following costs to comply with this proposed AD:

Estimated Costs
Action | Labor cost | Parts cost | Cost per product | Cost on U.S. operators
Review airplane maintenance records | 1 work-hour × $85 per hour = $85 | $0 | $85 | $928,795

The FAA estimates the following costs to do any necessary actions that would be required based on the results of the proposed airplane maintenance records review. The agency has no way of determining the number of airplanes that might need these actions:

On-Condition Costs
Action | Labor cost | Parts cost | Cost per product
Eddy current inspection of the left and right lower main wing spar (including access and restoring the airplane) | 1 work-hour contracted service × $600 per hour = $600 for the eddy current inspection | $20 | $960.
| 4 work hours × $85 per hours = $340 for access and restoration |  |
Report inspection results | 1 work-hours × $85 per hour = $85 | 0 | $85.
Replace main wing spar | 40 work-hours × $85 per hour = $3,400 per main wing spar | 10,983 | $14,383 per main wing spar.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to be approximately 1 hour per response, including the time for reviewing instructions, searching existing data sources, gathering and maintaining the data needed, and completing and reviewing the collection of information. All responses to this collection of information are mandatory. Send comments regarding this burden estimate or any other aspect of this collection of information, including suggestions for reducing this burden, to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Piper Aircraft, Inc.: Docket No. FAA-2024-2143; Project Identifier AD-2024-00008-A.

(a) Comments Due Date

The FAA must receive comments on this airworthiness directive (AD) by November 4, 2024.

(b) Affected ADs

None.

(c) Applicability

This AD applies to Piper Aircraft, Inc. (Piper) airplanes, certificated in any category, with a model and serial number shown in Table 1 to the introductory text of paragraph (c) of this AD and that meet at least one of the criteria in paragraphs (c)(1) or (2) of this AD.

Table 1 to the Introductory Text of Paragraph (c)—Applicability
Model | Serial Nos.
PA-28-140 | All serial numbers.
PA-28-150 | All serial numbers.
PA-28-160 | All serial numbers.
PA-28-180 | All serial numbers.
PA-28S-160 | All serial numbers.
PA-28S-180 | All serial numbers.
PA-28-236 | All serial numbers.
PA-28-201T | All serial numbers.
PA-32-300 | All serial numbers greater than and including 32-7940001.
PA-32R-300 | All serial numbers.
PA-32RT-300 | All serial numbers.
PA-32RT-300T | All serial numbers.
PA-32-301FT | All serial numbers.
PA-32-301XTC | All serial numbers.
PA-32R-301 (HP) | All serial numbers.
PA-32R-301 (SP) | All serial numbers.
PA-32R-301T | All serial numbers.
PA-32-301 | All serial numbers.
PA-32-301T | All serial numbers.

(1) Has accumulated 12,000 or more total hours time-in-service (TIS) on a wing spar; or

(2) Has missing or incomplete maintenance records.

(d) Subject

Joint Aircraft System Component (JASC) Code/Air Transport Association (ATA) of America Code 5711, WING SPAR.

(e) Unsafe Condition

This AD was prompted by a report of a wing separation caused by fatigue cracking in a visually inaccessible area of the main wing lower spar cap and additional reports of fatigue cracking in the wing spars of airplanes that share common type design features. The FAA is issuing this AD to address fatigue crack(s) in the lower main wing spar cap bolt holes. The unsafe condition, if not addressed, could result in the wing separating from the fuselage in flight.

(f) Compliance

Comply with this AD within the compliance times specified, unless already done.

(g) Review Airplane Maintenance Records To Determine When Previous Main Wing Spar Inspections Completed

Within 30 days or 100 hours TIS after the effective date of this AD, whichever occurs later, review the airplane maintenance records to determine when the previous inspection of each main wing spar was completed. The owner/operator (pilot) holding at least a private pilot certificate may accomplish this and must enter compliance with this paragraph of the AD into the airplane maintenance records in accordance with 14 CFR 43.9(a) and 91.417(a)(2)(v). The record must be maintained as required by 14 CFR 91.417, 121.380, or 135.439. If it can be determined from the airplane maintenance records review that an eddy current inspection of the main wing spar was done prior to the effective date of this AD at 12,000 hours TIS or greater and in accordance with Piper Service Bulletin No. 1345, dated March 27, 2020; or Piper Service Bulletin 1345A, dated September 17, 2021, then you may take credit for the inspection required by paragraph (h) of this AD.

(h) Bolt Hole Inspections and Corrective Actions

(1) Within the compliance time specified in either paragraph (h)(1)(i) or (ii) of this AD, as applicable, on both the left and right main wing spars, do an eddy current inspection of the inner surface of each bolt hole in the lower wing spar cap for crack(s) and for non-crack damage (including deep scratches, gouges, and thread marks), in accordance with paragraph 5. of the Instructions in Piper Service Bulletin No. 1412, dated May 7, 2024 (Piper SB No. 1412). Although Piper SB No. 1412 specifies NAS 410 Level II or Level III certification to perform eddy current and fluorescent penetrant inspections, this AD allows Level II or Level III qualification standards for inspection personnel using any inspector criteria approved by the FAA.

Note 1 to the introductory text of paragraph (h)(1): FAA Advisory Circular 65-31B, “Training, Qualification, and Certification of Nondestructive Inspection Personnel,” dated February 24, 2014, contains FAA-approved Level II and Level III qualification standards criteria for personnel doing nondestructive test inspections.

(i) Within 100 hours TIS after complying with paragraph (g) of this AD or within 100 hours TIS after a main wing spar accumulates 12,000 hours TIS, whichever occurs later; or

(ii) For airplanes with an unknown number of hours TIS on a main wing spar, within 100 hours TIS or 60 days after the effective date of this AD, whichever occurs later.

(2) If the eddy current inspection does not identify any indications, before further flight, install new wing spar bolts and nuts as required by paragraph (j) of this AD and report the inspection results as required by paragraph (k) of this AD.

(3) If the eddy current inspection identifies any crack(s), indications, or noisy signal, before further flight, do the applicable actions specified in paragraph 5.b. through k. of the Instructions in Piper SB No. 1412.

(i) If any non-crack damage is found in the main wing spar bolt holes or any crack(s) or non-crack damage is found in the spar box bolt holes contact either the Manager, East Certification Branch, FAA, or the Piper Organization Designation Authorization (ODA) for instructions and do those actions. To be approved, the repair method, modification deviation, or alteration deviation must meet the certification basis of the airplane, and the approval must specifically refer to this AD.

(ii) If any crack(s) is found in the main wing spar bolt hole, replace the main wing spar as required by paragraph (i) of this AD.

(iii) If no crack(s) or non-crack damage is found in the main wing spar bolt holes install new main wing spar bolts and nuts as required by paragraph (j) of this AD.

(i) Replace Main Wing Spar

If any crack is found during the inspection required by paragraph (h) of this AD, before further flight, replace the affected main wing spar with a new (zero hours TIS) main wing spar or with a serviceable (more than zero hours TIS) main wing spar that has passed the eddy current inspection required by paragraph (h) of this AD.

(j) Install New Main Wing Spar Bolts and Nuts

Before further flight, after completing the actions required by paragraph (h) or (i) of this AD, install new main wing spar bolts and nuts in accordance with paragraph (step) 9 of the Instructions in Piper SB No. 1412.

(k) Report Inspection Results

At the applicable time specified in paragraph (k)(1) or (2) of this AD, report the inspection results to the FAA, East Certification Branch, and to Piper Aircraft, Inc., using Appendix 1, “Inspection Results Form,” of this AD,

(1) If the action was done on or after the effective date of this AD, submit the report within 30 days after the action was done.

(2) If the action was done before the effective date of this AD, submit the report within 30 days after the effective date of this AD.

(l) Credit for Previous Actions

If the inspections of the main wing spars required by paragraph (h) of this AD were done before the effective date of this AD at 12,000 hours TIS or greater in accordance with Piper Service Bulletin No. 1345, dated March 27, 2020; or Piper Service Bulletin 1345A, dated September 17, 2021, then you may take credit for these inspections.

(m) Special Flight Permit

A special flight permit may be issued in accordance with 14 CFR 21.197 and 21.199 to permit a one-time, non-revenue ferry flight to a location where the airplane can be inspected. This ferry flight must be performed with only essential flight crew. This AD prohibits a special flight permit if any inspection reveals a crack in the main wing spar.

(n) Alternative Methods of Compliance (AMOCs)

(1) The Manager, East Certification Branch, FAA, has the authority to approve AMOCs for this AD, if requested using the procedures found in 14 CFR 39.19. In accordance with 14 CFR 39.19, send your request to your principal inspector or local Flight Standards District Office, as appropriate. If sending information directly to the manager of the East Certification Branch, send it to the attention of the person identified in paragraph (o)(1) of this AD and email to: AMOC@faa.gov.

(2) Before using any approved AMOC, notify your appropriate principal inspector, or lacking a principal inspector, the manager of the local flight standards district office/certificate holding district office.

(o) Additional Information

(1) For more information about this AD, contact Fred Caplan, Aviation Safety Engineer, FAA, East Certification Branch, FAA, 1701 Columbia Avenue, College Park, GA 30337; phone: (404) 474-5507; email: 9-ASO-ATLACO-ADs@faa.gov.

(2) Piper material identified in this AD that is not incorporated by reference is available at the address specified in paragraph (p)(3) of this AD.

(3) FAA Advisory Circular 65-31B, “Training, Qualification, and Certification of Nondestructive Inspection Personnel,” dated February 24, 2014, may be found at drs.faa.gov.

(p) Material Incorporated by Reference

(1) The Director of the Federal Register approved the incorporation by reference (IBR) of the material listed in this paragraph under 5 U.S.C. 552(a) and 1 CFR part 51.

(2) You must use this material as applicable to do the actions required by this AD, unless the AD specifies otherwise.

(i) Piper Service Bulletin No. 1412, dated May 7, 2024.

(ii) [Reserved].

(3) For Piper material identified in this AD, contact Piper Aircraft, Inc., 2926 Piper Drive, Vero Beach, FL 32960; phone: (772) 567-4361; email: customerservice@piper.com; website: piper.com.

(4) You may view this material at the FAA, Airworthiness Products Section, Operational Safety Branch, 901 Locust, Kansas City, MO 64106. For information on the availability of this material at the FAA, call (817) 222-5110.

(5) You may view this material at the National Archives and Records Administration (NARA). For information on the availability of this material at NARA, visit www.archives.gov/federal-register/cfr/ibr-locations or email fr.inspection@nara.gov.

Appendix 1 to Docket No. FAA-2024-2143

Issued on September 10, 2024.
Victor Wicklund,
Deputy Director, Compliance & Airworthiness Division, Aircraft Certification Service.

[FR Doc. 2024-21209 Filed 9-18-24; 8:45 am]

BILLING CODE 4910-13-P